FEDERAL COMMUNICATIONS COMMISSION

47 CFR Part 64

[WC Docket No. 12-375; Report 3038]

Petition for Reconsideration of Action in a Rulemaking Proceeding

AGENCY: Federal Communications Commission.

ACTION: Petition for reconsideration.

SUMMARY: A Petition for Reconsideration (Petition) has been filed in the Commission's Rulemaking proceeding by Michael S. Hamden, on behalf of himself.

DATES: Oppositions to the Petition must be filed on or before March 23, 2016. Replies to an opposition must be filed on or before April 4, 2016.

ADDRESSES: Federal Communications Commission, 445 12th Street SW., Washington DC 20554.

FOR FURTHER INFORMATION CONTACT: Gil Strobel, Wireline Competition Bureau, 202-418-7084, Gil.Strobel@fcc.gov.

SUPPLEMENTARY INFORMATION: This is a summary of the Commission's document, Report No. 3038, released February 11, 2016. The full text of Report No. 3038 is available for viewing and copying in Room CY-B402, 445 12th Street SW., Washington, DC. The Commission will not send a copy of this document pursuant to the Congressional Review Act, 5 U.S.C. 801(a)(1)(A), because this document does not have an impact on any rules of particular applicability.

Subject: In the Matter of Rules for Interstate Inmate Calling Services, WC Docket No. 12-375, published at 80 FR 79136, December 18, 2015. This notice is published pursuant to § 1.429 of the Commission's rules, 47 CFR 1.429. See also 47 CFR 1.4(b)(1).

Number of Petitions Filed: 1.

Federal Communications Commission.
Marlene H. Dortch,
Secretary.

[FR Doc. 2016-05014 Filed 3-7-16; 8:45 am]

BILLING CODE 6712-01-P